DEPARTMENT OF COMMERCE

National Institute of Standards and Technology

[Docket No: 130417383-3723-02]

Request for Information on Computer Security Incident Coordination (CSIC)

AGENCY: National Institute of Standards and Technology (NIST), United States Department of Commerce.

ACTION: Notice, extension of comment period.

SUMMARY: NIST is extending the deadline for submitting comments relating to Computer Security Incident Coordination. NIST experienced technical difficulties with receiving email comments from the time the notice was published on June 28, 2013 through July 31, 2013. Due to the technical difficulties experienced during the comment period, NIST may not have received all comments submitted via email on or before the closing date, July 29, 2013. Persons who submitted comments via email on or before July 29, 2013 may resubmit their comments during the extended comment period. In addition, since NIST is extending the comment period, persons who submitted untimely comments between July 29, 2013 and July 31, 2013 also may resubmit their comments during the extended comment period. NIST will accept new comments during the extended comment period as well. NIST will accept only emails during the extended time period.

DATES: Comments must be received no later than 11:59 p.m. Eastern Time October 4, 2013. Comments received between July 29, 2013 and the publication date of this notice of extension shall be deemed timely and will be given full consideration.

ADDRESSES: Electronic comments may be sent to: incidentcoordination@nist.gov with the subject line “CSIC RFI Comments.”

FOR FURTHER INFORMATION CONTACT: For questions about this RFI contact: Lee Badger, National Institute of Standards and Technology, 100 Bureau Drive, Mail Stop 8930, Gaithersburg, MD 20899-8930, telephone (301) 975-3176, email lee.badger@nist.gov. Please direct media inquiries to NIST's Office of Public Affairs at (301) 975-NIST.

SUPPLEMENTARY INFORMATION: On June 28, 2013, the National Institute of Standards and Technology (NIST) announced that it was soliciting comments relating to Computer Security Incident Coordination (78 FR 38949). That Request for Information may be found at https://federalregister.gov/a/2013-15542. The comments collected will contribute to a NIST Special Publication on Computer Security Incident Coordination. NIST experienced technical difficulties with receiving email comments from the time the notice was published on June 28, 2013 through July 31, 2013. Due to the technical difficulties experienced during the comment period, NIST may not have received all comments submitted via email on or before the closing date, July 29, 2013. Persons who submitted comments via email on or before July 29, 2013 may resubmit their comments during the extended comment period. In addition, since NIST is extending the comment period, persons who submitted untimely comments between July 29, 2013 and July 31, 2013 also may resubmit their comments during the extended comment period. NIST will accept new comments during the extended comment period as well. NIST will accept only emails during the extended time period.

Dated: September 11, 2013.
Willie E. May,
Associate Director for Laboratory Programs.

[FR Doc. 2013-22920 Filed 9-19-13; 8:45 am]

BILLING CODE 3510-13-P